DEPARTMENT OF ENERGY

Federal Energy Regulatory Commission

[Docket No. ER02-181-000]

Virginia Electric and Power Company; Notice of Filing

November 1, 2001.

Take notice that Virginia Electric and Power Company (the Company) on October 29, 2001, respectfully tendered for filing with the Federal Energy Regulatory Commission (Commission) a Service Agreement by Virginia Electric and Power Company to Williams Energy Marketing & Trading Company, designated as Service Agreement No. 7, under the Company's short-form market-based rate tariff, FERC Electric Tariff, Original Volume No. 6., effective on June 15, 2001. Copies of the filing were served upon Williams Energy Marketing & Trading Company, the Virginia State Corporation Commission, and the North Carolina Utilities Commission.

The Company requests an effective date of October 15, 2001, as requested by the customer.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before November 19, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-28038 Filed 11-7-01; 8:45 am]

BILLING CODE 6717-01-P